EXPORT-IMPORT BANK OF THE U.S.

[Public Notice 2012-0555]

Agency Information Collection Activities: Final Collection; Comment Request

AGENCY: Export-Import Bank of the U.S.

ACTION: Submission for OMB Review and Comments Request.

Form Title: EIB 03-02 Application for Medium Term Insurance or Guarantee.

SUMMARY: The Export-Import Bank of the United States (Ex-Im Bank), as a part of its continuing effort to reduce paperwork and respondent burden, invites the general public and other Federal Agencies to comment on the proposed information collection, as required by the Paperwork Reduction Act of 1995.

The purpose of this collection is to gather information necessary to make a determination of eligibility of a transaction for Ex-Im Bank assistance under its medium-term guarantee and insurance program.

The form can be viewed at www.exim.gov/pub/pending/eib03-02.pdf

DATES: Comments should be received on or before (insert 30 days after publication) to be assured of consideration.

ADDRESSES: Comments maybe submitted electronically on WWW.REGULATIONS.GOV or by mail to Patricia Brewer, Export Import Bank of the United States, 811 Vermont Ave. NW., Washington, DC 20571.

SUPPLEMENTARY INFORMATION: Titles and Form Number: EIB 03-02 Application for Medium Term Insurance or Guarantee.

OMB Number: 3048-0014.

Type of Review: Regular.

Need and Use: The purpose of this collection is to gather information necessary to make a determination of eligibility of a transaction for Ex-Im Bank assistance under its medium-term guarantee and insurance program.

Affected Public: This form affects entities involved in the export of U.S goods and services.

Annual Number of Respondents: 400.

Estimated Time per Respondent: 1 hour and 45 minutes.

Number of forms reviewed by Ex-Im Bank: 400.

Government Annual Burden Hours: 700 hours.

Government Cost: $38,115.

Frequency of Reporting or Use: As needed—each time a company seeks medium term guarantee or insurance support for an export sale.

Sharon A. Whitt,
Agency Clearance Officer.

[FR Doc. 2012-31038 Filed 12-21-12; 4:15 pm]

BILLING CODE 6690-01-P